FEDERAL TRADE COMMISSION

Agency Information Collection Activities; Proposed Collection; Comment Request; Extension

AGENCY: Federal Trade Commission (“Commission” or “FTC”).

ACTION: Notice and request for comment.

SUMMARY: The information collection requirements described below will be submitted to the Office of Management and Budget (“OMB”) for review, as required by the Paperwork Reduction Act (“PRA”). The FTC is seeking public comments on its proposal to extend through October 31, 2014, the current PRA clearance for information collection requirements contained in the Commission's Gramm-Leach-Bliley Financial Privacy Rule (“GLB Privacy Rule” or “Rule”). The current clearance expires on October 31, 2011.

DATES: Comments must be submitted on or before September 6, 2011.

ADDRESSES: Interested parties may file a comment online or on paper, by following the instructions in the Request for Comment part of the SUPPLEMENTARY INFORMATION section below. Write: “FTC File No. P085405” on your comment, and file your comment online at https://ftcpublic.commentworks.com/ftc/glbprivacyrulepra2 by following the instructions on the web-based form. If you prefer to file your comment on paper, mail or deliver your comment to the following address: Federal Trade Commission, Office of the Secretary, Room H-113 (Annex J), 600 Pennsylvania Avenue, NW., Washington, DC 20580.

FOR FURTHER INFORMATION CONTACT: Requests for copies of the collection of information and supporting documentation should be addressed to Katherine White, Attorney, Division of Privacy and Identity Protection, Bureau of Consumer Protection, Federal Trade Commission, 600 Pennsylvania Avenue, NW., Washington, DC 20580, (202) 326-2252.

SUPPLEMENTARY INFORMATION:

Title: Gramm-Leach-Bliley Privacy Rule, 16 CFR Part 313.

OMB Control Number: 3084-0121.

Type of Review: Extension of currently approved collection.

Abstract: The GLB Privacy Rule is designed to ensure that customers and consumers, subject to certain exceptions, will have access to the privacy policies of the financial institutions with which they conduct business. As mandated by the Gramm-Leach-Bliley Act (“GLBA”), 15 U.S.C. 6801-6809, the Rule requires financial institutions to disclose to consumers: (1) Initial notice of the financial institution's privacy policy when establishing a customer relationship with a consumer and/or before sharing a consumer's non-public personal information with certain nonaffiliated third parties; (2) notice of the consumer's right to opt out of information sharing with such parties; (3) annual notice of the institution's privacy policy to any continuing customer; and (4) notice of changes in the institution's practices on information sharing.

On May 12, 2011, the Commission sought comment on the information collection requirements associated with the GLB Privacy Rule. 76 FR 27645. No comments were received. Pursuant to the OMB Regulations, 5 CFR Part 1320, that implements the PRA, 44 U.S.C. 3501 et seq., the FTC is providing a second opportunity for the public to comment while seeking OMB approval to renew the pre-existing clearance for the Rule.

Estimated Annual Burden: 1,930,000 hours.

Likely Respondents, Estimated Number of Respondents, Estimated Average Burden Per Year Per Respondent:

(a) Entities addressing the GLB Privacy Rule for the first time—(1) 5,000 entities at 20 hours each to review internal policies and develop GLBA-implementing instructions, create and disseminate disclosures; (2) 5,000 entities at 3 hours each to create disclosure disclosures; and (3) 5,000 entities at 25 hours each to disseminate initial disclosures (including opt out notices).¹

¹ The FTC retains its previously cleared estimate of the number of entities each year that will address the GLB Privacy Rule for the first time.

(b) Established entities—(1) 70,000 entities at 4 hours each to review GLBA implementing policies and practices; (2) 70,000 entities at 20 hours each to disseminate annual disclosure; (3) 1,000 entities at 10 hours each to change privacy policies and related disclosures.²

² The FTC retains its prior assumptions to arrive at estimated burden for established entities: (1) 100,000 respondents, approximately 70% of whom maintain customer relationships exceeding one year, (2) no more than 1% (1,000) of whom make additional changes to privacy policies at any time other than the occasion of the annual notice; and (3) such changes will occur no more often than once per year.

Frequency of Response: On occasion.

Financial institutions must provide notices to consumers: (1) When initially establishing a customer relationship and/or before sharing a consumer's non-public personal information with certain nonaffiliated third parties; (2) on an annual basis; and (3) upon any changes in the institution's practices on information sharing.

Total Annual Labor Cost: $46,473,780.³

³ This is an increase from the previously published estimate of $45,922,820 (see 76 FR at 27646-7 for details and calculations underlying the preceding total) based on newer BLS data used for hourly wage inputs.

Total Annual Capital or Other Non-Labor Cost: Minimal.

Request for Comment: You can file a comment online or on paper. For the Commission to consider your comment, we must receive it on or before September 6, 2011. Write “Paperwork Comment: FTC File No. P085405” on your comment. Your comment—including your name and your state — will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, like anyone's Social Security number, date of birth, driver's license number or other state identification number or foreign country equivalent, passport number, financial account number, or credit or debit card number. You are also solely responsible for making sure that your comment doesn't include any sensitive health information, like medical records or other individually identifiable health information. In addition, don't include any “[tirade secret or any commercial or financial information which is obtained from any person and which is privileged or confidential,” as provided in Section 6(f) of the FTC Act, 15 U.S.C. 46(f), and FTC Rule 4.10(a)(2), 16 CFR 4.10(a)(2). In particular, don't include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).⁴ Your comment will be kept confidential only if the FTC General Counsel, in his or her sole discretion, grants your request in accordance with the law and the public interest.

⁴ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/glbprivacyrulepra2, by following the instructions on the web-based form. If this Notice appears at http://www.regulations.gov/#!home, you also may file a comment through that Web site.

If you file your comment on paper, write “Paperwork Comment: FTC File No. P085405” on your comment and on the envelope, and mail or deliver it to the following address: Federal Trade Commission, Office of the Secretary, Room H-113 (Annex J), 600 Pennsylvania Avenue, NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before September 6, 2011. You can find more information, including routine uses permitted by the Privacy Act, in the Commission's privacy policy, at http://www.ftc.gov/ftc/privacy.htm.

Comments on the information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street, NW., Washington, DC 20503. Comments sent to OMB by U.S. postal mail, however, are subject to delays due to heightened security precautions. Thus, comments instead should be sent by facsimile to (202) 395-5167.

David C. Shonka,
Acting General Counsel.

[FR Doc. 2011-19707 Filed 8-3-11; 8:45 am]

BILLING CODE 6750-01-M